DEPARTMENT OF LABOR

Office of the Secretary

[Secretary's Order—08-2006]

Department of Labor's Public Affairs Program

1. Purpose

This Order delegates authority and assigns responsibility for the Department of Labor's public affairs program.

2. Authority and Directives Affected

This order is issued pursuant to the Act of March 4, 1913, as amended (37 Stat. 736; 29 U.S.C. 551), and Reorganization Plan No. 6 of 1950 (15 FR 3174; 29 U.S.C. 551, Note). Secretary's Order 37-65 is cancelled.

3. Background

In 1945, Secretary of Labor L.B. Schwellenbach centralized supervision of all information work performed by the Department in the Division of Information (currently the Office of Public Affairs, OPA). This was done “to obtain maximum efficiency and economy in the dissemination of public information concerning the activities of the Department.” In 1957, Secretary of Labor James B. Mitchell delegated more authority and responsibility to the Office of Information to ensure centralized coordination and adherence to Departmental policy. In 1965, Secretary of Labor W. Willard Wirtz issued Secretary's Order 37-65 to improve information service to the public. In 2003, the agencies' public affairs functions were centralized in the Office of Public Affairs to ensure this important function was continued, but in a more efficient manner.

4. Scope

The Department of Labor's public affairs function includes all activities that involve the interaction with, and the preparation and issuance of information to, the media and the public. Its authority to execute such functions covers all aspects of planning, developing, implementing, and monitoring informational, educational and promotional activities of a public affairs nature. It includes all forms of public communication, e.g., oral, written, visual or electronic.

This Order applies to all Departmental agencies (National and Regional Offices). This Order shall not contravene the provisions of Public Law 95-452, the Inspector General Act of 1978, as amended (5 U.S.C., App. 3). In addition, the authority and responsibilities delegated to the Commissioner of the Bureau of Labor Statistics in Secretary's Order 9-75, section 4 paragraph d(1), pursuant to 29 U.S.C. 1, shall not be superseded by this Order.

5. Delegation of Authority and Assignment of Responsibility

A. The Assistant Secretary for Public Affairs is delegated authority and assigned responsibility for:

(1) Supervising, directing and coordinating all Department of Labor public affairs activities.

(2) Serving as the Department of Labor's primary media spokesperson; delegating media spokesperson authority to other OPA and agency staff members; overseeing the Departmental spokesperson function.

(3) Serving as the primary advisor to the Secretary of Labor and all Departmental executives and staff on issues relating to public affairs.

(4) Planning, developing and conducting a comprehensive nationwide public affairs program in support of the Secretary's goals and initiatives; Departmental policies, programs and activities; and the Department's basic mission.

(5) Establishing, developing and implementing policies, regulations, guidelines and standards governing all public affairs and information activities carried out by the Department of Labor.

(a) Developing and implementing policies, guidelines and standards governing all informational, educational and promotional campaigns, events, etc.; news releases; articles; speeches; publications; and other related information activities and products developed and prepared by the agencies.

(b) Developing and implementing all policies, guidelines and standards regulating the Department's audiovisual program, including audio-video, graphics, photography, exhibits, and other related functions (Secretary's Order 6-83).

(c) Developing and implementing policies, guidelines and standards relating to the Department of Labor enterprise communications services (Secretary's Order 2-2005).

(6) Reviewing and approving agency public affairs plans involving major national programs and initiatives at the concept stage. If such materials are approved, periodically monitoring progress with the authority to change or discontinue the activity or production.

(7) Providing technical advice and assistance to agencies on planning, developing, implementing, and monitoring public affairs programs and activities.

(8) Under the auspices of the Department of Homeland Security, OPA participates in the planning, development and implementation of public affairs and communication activities as a part of the Continuity of Operations (COOP) that assures the ability of the Federal government to continue its essential functions.

(9) Preparing, approving and disseminating Department of Labor news releases; approving publications and audiovisual materials that serve a public affairs function, and any other public information materials, with the exception of legal, regulatory, interpretive, technical or similar material. However, this Order does not supersede the implementation of the Office of Management and Budget Statistical Directive No. 3 by the Bureau of Labor Statistics relating to the production, safeguarding, and implementation of Principal Federal Economic Indicators.

(10) In each region, planning and conducting a comprehensive public affairs program as well as providing all support and services required by Departmental components.

B. Department of Labor Agency Heads are delegated authority and assigned responsibility for:

(1) Developing goals and objectives for their agencies.

(2) Developing agency plans that identify major programs or initiatives agencies will focus on during the coming fiscal year and providing a brief description of the informational, educational or promotional activities planned for each major program and initiative; submitting the plans to OPA to assist in carrying out public affairs activities.

(3) Planning and developing activities to inform the public about the agencies' laws, policies, programs and activities.

(4) Planning, preparing and producing a wide range of informational materials designed to effectively and efficiently inform the public about the agencies' responsibilities and functions, as well as the public's rights and responsibilities; producing all such materials in accordance with established policies, procedures, guidelines and standards; submitting materials to OPA for approval. Informational materials subject to such approval do not include legal, regulatory, interpretive, technical or similar materials.

(5) Developing internal procedures to ensure adherence to established Departmental public affairs policies, procedures, guidelines and standards.

C. The Solicitor of Labor shall have the responsibility for providing legal advice and assistance to all officers of the Department relating to the administration of activities under this Order. Starting Departmental legal proceedings, representing the Secretary and/or other officials of the Department of Labor, and determining whether such proceedings or representations are appropriate in a given case are delegated exclusively to the Solicitor.

6. Restrictions

No agency or individual will negotiate or enter into any agreement to alter, restrict, limit or control conduct of the Department of Labor's public affairs activities. Requests for waivers to this restriction must be obtained from the Assistant Secretary for Public Affairs prior to action.

7. Re-Delegation

The authorities described in paragraph 5 may be re-delegated.

8. Secretarial Action

Any problems or disagreements arising in the application of the authorities delegated in this Order that cannot be mutually resolved by the Office of Public Affairs and agency officials will be referred through the Assistant Secretary for Public Affairs to the Secretary of Labor for resolution or other appropriate action.

9. Effective Date

This order is effective immediately.

Dated: March 10, 2006.
Elaine L. Chao,
Secretary of Labor.

[FR Doc. 06-2608 Filed 3-16-06; 8:45 am]

BILLING CODE 4510-23-P